DEPARTMENT OF JUSTICE

Notice of Lodging of Modified Consent Decree Pursuant to the Clean Air Act

Notice is hereby given that on August 11, 2009, a proposed modified Consent Decree in United States et al. v. Ohio Edison Co., et al., (S.D. Ohio), No. C2-99-1181, was lodged with the United States District Court for the Southern District of Ohio. The proposed modified Decree is incorporated within a Joint Motion to Modify Consent Decree with Order Modifying Consent Decree, filed the same day in the same court.

Under the proposed modified Consent Decree, Ohio Edison agrees to repower one of its coal-fired power plants—the R.E. Burger Generating Station Units 4 and 5 (“Burger”) near Shadyside, Ohio—using primarily renewable biomass fuel. The agreement, joined by the States of New York, Connecticut and New Jersey, modifies a 2005 consent decree requiring reductions in Ohio Edison's emissions of sulfur dioxide (“SO2”) and nitrogen oxide (“NOX”). The modified decree will substantially reduce emissions of SO2 and NOX from Burger's current levels and significantly reduce net carbon dioxide emissions from current levels.

The Department of Justice will receive for a period of thirty (30) days from the date of this publication comments relating to the modified Consent Decree. Comments should be addressed to the Assistant Attorney General, Environment and Natural Resources Division, and either e-mailed to pubcomment-ees.enrd@usdoj.gov or mailed to P.O. Box 7611, U.S. Department of Justice, Washington, DC 20044-7611, and should refer to United States et al. v. Ohio Edison, et al., (S.D. Ohio.), No. C2-99-1181, D.J. Ref. 90-5-2-1-06894. The modified Consent Decree may be examined at the Office of the United States Attorney, Southern District of Ohio, 280 North High Street, Fourth Floor, Columbus, Ohio 43215. During the public comment period, the modified Consent Decree may also be examined on the following Department of Justice Web site, http://www.usdoj.gov/enrd/Consent_Decrees.html. A copy of the modified Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.50 (25 cents per page reproduction cost) payable to the U.S. Treasury.

Maureen Katz,
Deputy Chief, Environmental Enforcement Section.

[FR Doc. E9-19564 Filed 8-14-09; 8:45 am]

BILLING CODE 4410-15-P